DEPARTMENT OF COMMERCE

International Trade Administration

[A-570-137]

Pentafluoroethane (R-125) From the People's Republic of China: Preliminary Results of Antidumping Duty Administrative Review; 2021-2023

AGENCY: Enforcement and Compliance, International Trade Administration, Department of Commerce.

SUMMARY: The U.S. Department of Commerce (Commerce) preliminarily finds that Pentafluoroethane (R-125) from the People's Republic of China (China) was sold in the United States at prices below normal value (NV) during the period of review (POR), August 17, 2021, through February 28, 2023. Additionally, we are rescinding this administrative review in part with respect to two companies for which all review requests were withdrawn. We invite interested parties to comment on these preliminary results of review.

DATES: Applicable April 3, 2024.

FOR FURTHER INFORMATION CONTACT: Andrew Hart or Samantha Kinney, AD/CVD Operations, Office II, Enforcement and Compliance, International Trade Administration, U.S. Department of Commerce, 1401 Constitution Avenue NW, Washington, DC 20230; telephone: (202) 482-1058 or (202) 482-2285, respectively.

SUPPLEMENTARY INFORMATION:

Background

On March 3, 2022, Commerce published in the Federal Register the antidumping duty (AD) order on R-125 from China.¹ On March 2, 2023, Commerce published in the Federal Register a notice of opportunity to request an administrative review of the Order, covering the POR, pursuant to section 751(a)(1) of the Tariff Act of 1930, as amended (the Act).² On May 9, 2023, based on timely requests for review from Huantai Dongyue International Trade Co., Ltd. (Huantai Dongyue), Shandong Dongyue Chemical Co., Ltd. (Shandong Dongyue), Zhejiang Sanmei Chemical Ind. Co., Ltd. (Zhejiang Sanmei), and Zhejiang Yonghe Refrigerant Co., Ltd. (Zhejiang Yonghe),³ Commerce initiated an administrative review of the Order covering four companies,⁴ including the two mandatory respondents, Zhejiang Yonghe and Zhejiang Sanmei. On November 21, 2023, Commerce extended the deadline for the preliminary results of this review until March 29, 2024.⁵

¹ See Pentafluoroethane (R-125) from the People's Republic of China: Antidumping and Countervailing Duty Orders, 87 FR 12081 (March 3, 2022) (Order).

² See Antidumping or Countervailing Duty Order, Finding, or Suspended Investigation; Opportunity to Request Administrative Review and Join Annual Inquiry Service List, 88 FR 13091 (March 2, 2023).

³ See Huantai Dongyue's Letter, “Request for Administrative Review,” dated March 31, 2023; Shandong Dongyue's Letter, “Request for Administrative Review,” dated March 31, 2023; Zhejiang Sanmei's Letter, “Request for Administrative Review,” dated March 31, 2023; and Zhejiang Yonghe's Letter, “Request for Administrative Review,” dated March 31, 2023.

⁴ See Initiation of Antidumping and Countervailing Duty Administrative Reviews, 88 FR 29887 (May 9, 2023) (Initiation Notice). The Initiation Notice listed five companies. However, Zhejiang Sanmei Chemical Ind. Co., Ltd. is the same company as Zhejiang Sanmei Chemical Industry Co., Ltd.

⁵ See Memorandum, “Extension of Deadline for Preliminary Results of Antidumping Duty Administrative Review,” dated November 21, 2023.

Scope of the Order

The product covered by the Order is R-125 from China. For a full description of the scope of the Order, see the Preliminary Decision Memorandum.⁶

⁶ See Memorandum, “Decision Memorandum for the Preliminary Results of the 2021-2023 Antidumping Duty Administrative Review of Pentafluoroethane (R-125) from the People's Republic of China,” dated concurrently with, and hereby adopted by, this notice (Preliminary Decision Memorandum).

Rescission of Review, In Part

Pursuant to 19 CFR 351.213(d)(1), Commerce will rescind an administrative review, in whole or in part, if a party who requested the review withdraws the request within 90 days of the date of publication of the notice of initiation of the requested review. On June 18 and July 18, 2023, Huantai Dongyue and Shandong Dongyue each timely withdrew its request for review of itself, respectively.⁷ Because no other parties requested a review of these two companies, Commerce is rescinding the administrative review in part, with respect to these companies. See the Preliminary Decision Memorandum for further discussion.

⁷ See Huantai Dongyue's Letter, “Withdrawal of Request for Administrative Review,” dated June 18, 2023; see also Shandong Dongyue's Letter, “Withdrawal of Request for Administrative Review and Request Suspension of Deadlines,” dated July 18. 2023.

Separate Rates

Commerce preliminarily determines that the Sanmei Companies ⁸ and the Yonghe Companies,⁹ the two companies individually examined in this review, are eligible to receive separate rates in this review.¹⁰

⁸ We preliminarily find that the following affiliated companies should be collapsed and treated as a single entity: Zhejiang Sanmei; Jiangsu Sanmei Chemical Ind. Co., Ltd.; and Fujian Qingliu Dongying Chemical Ind. Co., Ltd. (collectively, Sanmei Companies). For further discussion, see Memorandum, “Affiliation and Single Entity Determination for Zhejiang Sanmei Chemical Ind. Co., Ltd.,” dated concurrently with this notice.

⁹ We preliminarily find that the following affiliated companies should be collapsed and treated as a single entity: Zhejiang Yonghe; Jinhua Yonghe Flurine Chemical Co., Ltd.; Inner Mongolia Yonghe Fluorochemical Co., Ltd.; and Shaowu Yonge Jintag new material Co., Ltd. (collectively, Yonghe Companies). For further discussion, see Memorandum, “Affiliation and Single Entity Determination for Zhejiang Yonghe Refrigerant Co., Ltd.,” dated concurrently with this notice.

¹⁰ See Preliminary Decision Memorandum at “Separate Rate Recipients” section.

China-Wide Entity

Under Commerce's policy regarding the conditional review of the China-wide entity,¹¹ the China-wide entity will not be under review unless a party specifically requests, or Commerce self-initiates, a review of the entity. Because no party requested a review of the China-wide entity in this review, the entity is not under review, and the entity's rate (i.e., 267.51 percent) is not subject to change.¹²

¹¹ See Antidumping Proceedings: Announcement of Change in Department Practice for Respondent Selection in Antidumping Duty Proceedings and Conditional Review of the Nonmarket Economy Entity in NME Antidumping Duty Proceedings, 78 FR 65963 (November 4, 2013).

¹² See Order.

Methodology

Commerce is conducting this review in accordance with section 751(a)(1)(B) of the Act. We calculated export price in accordance with section 772 of the Act. Because China is a non-market economy country within the meaning of section 771(18) of the Act, we calculated NV in accordance with section 773(c) of the Act.

For a full description of the methodology underlying our preliminary results, see the Preliminary Decision Memorandum.¹³ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

¹³ See Preliminary Decision Memorandum at “Discussion of the Methodology” section.

Preliminary Results of Review

Commerce preliminarily determines that the following weighted-average dumping margins exist for the period August 17, 2021, through February 28, 2023:

Exporter | Weighted-average dumping margin (percent)
Zhejiang Sanmei Chemical Ind. Co., Ltd.; Fujian Qingliu Dongying Chemical Co., Ltd.; Jiangsu Sanmei Chemical Ind. Co., Ltd | 24.62
Zhejiang Yonghe Refrigerant Co., Ltd.; Jinhua Yonghe Fluorine Chemical Co., Ltd.; Inner Mongolia Yonghe Fluorochemical Co., Ltd.; Shaowu Yonghe Jintang new material Co., Ltd | 281.30

Disclosure and Public Comment

Commerce intends to disclose the calculations performed for these preliminary results to interested parties within five days after public announcement, or if there is no public announcement, within five days of the date of publication of this notice in the Federal Register.¹⁴

¹⁴ See 19 CFR 351.224(b).

Pursuant to 19 CFR 351.309(c), interested parties may submit case briefs to Commerce no later than 30 days after the date of publication of this notice.¹⁵ Rebuttal briefs, limited to issues raised in the case briefs, may be filed no later than five days after the date for filing case briefs.¹⁶ Interested parties who submit case briefs or rebuttal briefs in this proceeding must submit: (1) a table of contents listing each issue; and (2) a table of authorities.¹⁷

¹⁵ See 19 CFR 351.303 (for general filing requirements).

¹⁶ See 19 CFR 351.309(d); see also Administrative Protective Order, Service, and Other Procedures in Antidumping and Countervailing Duty Proceedings, 88 FR 67069, 67077 (September 29, 2023) (APO and Final Service Rule).

¹⁷ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁸ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Final Service Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice. If a request for a hearing is made, Commerce intends to hold a hearing at a time and date to be determined.²⁰ Parties should confirm the date, time, and location of the hearing two days before the scheduled date.

²⁰ See 19 CFR 351.310(d).

All submissions, including case and rebuttal briefs, as well as hearing requests, should be filed using ACCESS.²¹ An electronically-filed document must be received successfully in its entirety by ACCESS by 5:00 p.m. Eastern Time on the established deadline. Note that Commerce has amended certain of its requirements pertaining to the service of documents in 19 CFR 351.303(f).²²

²¹ See 19 CFR 351.303.

²² See APO and Final Service Rule.

Assessment Rates

In accordance with section 751(a)(2)(C) of the Act, the final results of this review shall be the basis for the assessment of antidumping duties on entries of merchandise covered by this review. Upon completion of the final results, Commerce shall determine, and U.S. Customs and Border Protection (CBP) shall assess, antidumping duties on all appropriate entries covered by this review.²³

²³ See 19 CFR 351.212(b)(1).

If the individually examined respondents' weighted-average dumping margins are above de minimis (i.e., 0.50 percent) in the final results of this review, we will calculate importer-specific assessment rates for each respondent on the basis of the ratio of the total amount of dumping calculated for each importer's examined sales and, where possible, the total entered value of those same sales in accordance with 19 CFR 351.212(b)(1).²⁴ Where a respondent did not report entered value, we will calculate importer-specific per-unit duty assessment rates based on the ratio of the total amount of antidumping duties calculated for the examined sales to the total quantity of those sales. To determine whether an importer-specific, per-unit assessment rate is de minimis, in accordance with 19 CFR 351.106(c)(2), we also will calculate an importer-specific ad valorem ratio based on estimated entered values.

²⁴ See Antidumping Proceedings: Calculation of the Weighted-Average Dumping Margin and Assessment Rate in Certain Antidumping Proceedings: Final Modification, 77 FR 8101, 8103 (February 14, 2012).

If, in the final results, a mandatory respondent's weighted-average dumping margin is zero or de minimis (i.e., 0.50 percent), Commerce will instruct CBP to liquidate appropriate entries without regard to antidumping duties.²⁵ For entries that were not reported in the U.S. sales database submitted by each mandatory respondent individually examined during this review, Commerce will instruct CBP to liquidate such entries at the China-wide rate.²⁶

²⁵ See 19 CFR 351.106(c)(2).

²⁶ For a full discussion of this practice, see Non-Market Economy Antidumping Proceedings: Assessment of Antidumping Duties, 76 FR 65694 (October 24, 2011).

For the companies for which we have rescinded this review in part, Commerce intends to instruct CBP to assess antidumping duties on all appropriate entries at a rate equal to the cash deposit rate of estimated antidumping duties required at the time of entry, or withdrawal from warehouse, for consumption in accordance with 19 CFR 351.212(c)(1)(i). Commerce intends to issue assessment instructions to CBP for the rescinded companies no earlier than 35 days after the date of publication of the preliminary results in the Federal Register.

Commerce intends to issue assessment instructions, other than the assessment instructions for the rescinded companies, to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise from China entered, or withdrawn from warehouse, for consumption on or after the publication date, as provided for by section 751(a)(2)(C) of the Act: (1) for the subject merchandise exported by the companies listed above that have a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice. These deposit requirements, when imposed, shall remain in effect until further notice.

Notification to Importers

This notice also serves as a preliminary reminder to importers of their responsibility under 19 CFR 351.402(f) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results of review in accordance with sections 751(a)(l) and 777(i)(l) of the Act, and 19 CFR 351.221(b)(4).

Dated: March 28, 2024.
Abdelali Elouaradia,
Deputy Assistant Secretary for Enforcement and Compliance.

Appendix

List of Topics Discussed in the Preliminary Decision Memorandum

I. Summary

II. Background

III. Scope of the Order

IV. Rescission of Review, In Part

V. Single Entity Determinations

VI. Discussion of the Methodology

VII. Currency Conversion

VIII. Recommendation

[FR Doc. 2024-07069 Filed 4-2-24; 8:45 am]

BILLING CODE 3510-DS-P